DEPARTMENT OF JUSTICE

Antitrust Division

Notice Pursuant to the National Cooperative Research and Production Act of 1993—DVD Copy Control Association (“DVD CCA”′)

Notice is hereby given that, on October 12, 2001, pursuant to section 6(a) of the National Cooperative Research and Production Act of 1993, 15 U.S.C. 4301 et seq. (“the Act”), DVD Copy Control Association (“DVD CCA”) has filed written notifications simultaneously with the Attorney General and the Federal Trade Commission disclosing changes in its membership status. The notifications were filed for the purpose of extending the Act's provisions limiting the recovery of antitrust plaintiffs to actual damages under specified circumstances. Specifically, A&R Cambridge Limited, Cambridge, Cambridgeshire, UNITED KINGDOM; AD Device Corporation, Tokyo, JAPAN; ANAM Electronics Co., Ltd., Ansan-City, Kyungki-Do, REPUBLIC OF KOREA; Applied Research Corporation, Taipei Hsien, TAIWAN; Aplus Technics Co., Ltd., Taipei, TAIWAN; Apollo Electronics Group Limited, Kowloon Bay, Kowloon, HONG KONG—CHINA; Argus Electronics Co., Ltd., Taipei, TAIWAN; Arts Electronics Co. Ltd., Hong Kong, HONG KONG—CHINA; Behavior Tech Computer Corp., Taipei, TAIWAN; Beijing Durban Yu Chang Electronics Co. Ltd., Kowloon, HONG KONG—CHINA; CNERC-OD, Shanghai, PEOPLE'S REPUBLIC OF CHINA; Coach Master International dba CMI Worldwide, Inc., Seattle, WA; Comjet Information Systems Corp., Taipei, TAIWAN; Concord Disc Manufacturing Corp., Anaheim, CA; Cyrus Electronics Ltd., Huntingdon, Cambridgeshire, UNITED KINGDOM; D.M. Technology Co., Ltd., Anyang City, Kyunggi-Do, REPUBLIC OF KOREA; Diskware Co., Ltd., Koutou-Ku, Tokyo, JAPAN; Diversion Technologies, Inc., Castro Valley, CA; Dragon DVD Technology Sdn Bhd, Kuala Lumpur, MALAYSIA; Duplico 2000, S.L., Barcelona, SPAIN; Eltech Electronics Technology (M) Sdn Bhd, Senai, Johore, MALAYSIA; Enlight Corporation, Taipei, TAIWAN; Fujitsu Ten Limited, Hyogoku, Kobe, JAPAN; GBM Advanced Technology Corp., Taipei, TAIWAN; Gigastorage Corporation Taiwan, Hsinchu, TAIWAN; Gradiente Electronica S.A., Sao Paulo, SP, BRAZIL; Hanpin Electron Co., Ltd., Tainan Hsien, TAIWAN; Kanematsu Corporation, Tokyo, JAPAN; Koninklijke Philips Electronics N.V., Eindhoven, THE NETHERLANDS; Lection Technology Co., Ltd., Nei-Hu, Taipei, TAIWAN; Microsoft Corporation, Redmond, WA; MRT Technology, City of Industry, CA; Nokia Corporation, Espoo, FINLAND; nReady Netware Ltd., Quarry Bay, HONG KONG—CHINA; Nvidia Corporation, Santa Clara, CA; Optical Experts Manufacturing, Inc., Charlotte, NC; OptoMedia Electronics Corp., Taipei Hsien, TAIWAN; Paramount Pictures Corporation, Los Angeles, CA; Planet Optical Disc Limited FZE, Dubai, UNITED ARAB EMIRATES; Princo Corporation, Hsin-Chu, TAIWAN; Proside Corporaton, Chiba, JAPAN; Pro-Tech Industries Corp., Kowloon, HONG KONG—CHINA; Provac Disc Media Inc., Toronto, Ontario, CANADA; Raymedia Co., LTD., Kyungki-do, REPUBLIC OF KOREA; Regency Recordings, Braeside, Victoria, AUSTRALIA; Shenzhen E-Boda Technology Co., Ltd., Shenzhen, PEOPLE'S REPUBLIC OF CHINA; Shenzhen Hongyu Industrial Co. Ltd., Shenzhen, PEOPLE'S REPUBLIC OF CHINA; Shunde Xiongfeng Electric Industrial Company, Shunde City, Guangdong, PEOPLE'S REPUBLIC OF CHINA; Silicon Integrated Systems Corporation, Sunnyvale, CA; SM Summit Holdings Limited, Singapore, SINGAPORE; Soft4D Co., Ltd., Songnam-Si, Kyungki-Do, REPUBLIC OF KOREA; Sony Pictures Entertainment Inc., Culver City, CA; STMicroelectronics, Inc., Carrollton, TX; The Walt Disney Company, Burbank, CA; Trident Microsystems, Inc., Santa Clara, CA; TVIA, Inc., Santa Clara, CA; Videon Central Inc., State College, PA; ViXS Systems Inc., Toronto, Ontario, CANADA; Welton Electronics Ltd., Chai Wan, HONG KONG—CHINA; Zenix Electronics Limited, Tsimshatsui, Kowloon,HONG KONG—CHINA; and Zomax Incorporated, Plymouth, MN have been added as parties to this venture. Also, Shiba Tech Co., Ltd., Kowloon, HONG KONG—CHINA; and Vision Tech International Holdings, Limited, Wan Chai, HONG KONG—CHINA have been dropped as parties to this venture. The following members have changed their names: Changzhou Shinco Digital Technology to Jiangsu Shinco Electronic Group Co., Ltd., Changzhou Jiangsu, PEOPLE'S REPUBLIC OF CHINA; Advanced Media Corporation to AMC Co., Ltd., Tokushima, JAPAN; and BMG Storage Media to Arvato Storage Media, Gutersloh, GERMANY.

No other changes have been made in either the membership or planned activity of the group research project. Membership in this group research project remains open, and DVD Copy Control Association (“DVD CCA”) intends to file additional written notification disclosing all changes in membership.

On April 11, 2001, DVD Copy Control Association (“DVD CCA”) filed its original notification pursuant to section 6(a) of the Act. The Department of Justice published a notice in the Federal Register pursuant to section 6(b) of the Act on August 3, 2001 (66 FR 40727).

Constance K. Robinson,
Director of Operations, Antitrust Division.

[FR Doc. 02-101 Filed 1-2-02; 8:45 am]

BILLING CODE 4410-11-M